DEPARTMENT OF DEFENSE

Department of the Air Force

Air University Board of Visitors Meeting

ACTION: Notice of meeting of the Air University Board of Visitors.

SUMMARY: Under the provisions of the Federal Advisory Committee Act of 1972 (5 U.S.C., Appendix, as amended), the Government in the Sunshine Act of 1976 (5 U.S.C. 552b, as amended), and 41 CFR 102-3.150, the Department of Defense announces that the Air University Board of Visitors' fall meeting will take place on Monday, 16 November, 2015, from 8 a.m. to approximately 5 p.m. and Tuesday, 17 November, 2015, from 7:30 a.m. to approximately 3 p.m. The meeting will be held in the Air University Commander's Conference Room in Building 800 on Maxwell AFB in Montgomery, Alabama.

The purpose of this meeting is to provide independent advice and recommendations on matters pertaining to the educational, doctrinal, and research policies and activities of Air University. The agenda will include topics relating to the policies, programs, and initiatives of Air University educational programs and will include an honorary degree presentation.

Pursuant to 5 U.S.C. 552b, as amended, and 41 CFR 102-3.155 all sessions of the Air University Board of Visitors' meeting will be open to the public. Public attendance shall be accommodated on a first-come, first-served basis up to the reasonable and safe capacity of the meeting room. In addition, any member of the public wishing to provide input to the Air University Board of Visitors' should submit a written statement in accordance with 41 CFR 102-3.140(c) and section 10(a)(3) of the Federal Advisory Committee Act and the procedures described in this paragraph. Written statements must address the following details: The issue, discussion, and a recommended course of action. Supporting documentation may also be included as needed to establish the appropriate historical context and provide any necessary background information. Written statements can be submitted to the Designated Federal Officer (DFO) at the Air Force address detailed below at any time. However, if a written statement is not received at least 10 calendar days before the first day of the meeting which is the subject of this notice, then it may not be provided to or considered by the Air University Board of Visitors' until the next meeting. The DFO will review all timely submissions with the Air University Board of Visitors' Board Chairman and ensure they are provided to members before the meeting that is the subject of this notice. If after review of timely submitted written comments and the Board Chairman and DFO deem appropriate, they may choose to invite the submitter of the written comments to orally present the issue during the meeting that is the subject of this notice. In accordance with 41 CFR 102-3.140(d), any oral presentations before the BOV shall be in accordance with agency guidelines provided pursuant to a written invitation and this paragraph. Direct questioning of Board members or meeting participants by the public is not permitted except with the approval of the DFO and Chairman. Additionally, any member of the public wishing to attend this meeting should contact the person listed below at least five calendar days prior to the meeting for information on base entry procedures.

FOR FURTHER INFORMATION CONTACT: Lisa Arnold, Designated Federal Officer, Air University Headquarters, 55 LeMay Plaza South, Maxwell Air Force Base, Alabama 36112-6335, telephone (334) 953-2989.

Henry Williams,
Acting Air Force Federal Register Liaison Officer, DAF.

[FR Doc. 2015-19836 Filed 8-11-15; 8:45 am]

BILLING CODE 5001-10-P